DEPARTMENT OF DEFENSE

Office of Secretary of Defense

[DOD-2007-OS-0084]

Privacy Act of 1974; Systems of Records

AGENCY: Defense Finance and Accounting Service.

ACTION: Notice to add a new system of records.

SUMMARY: The Defense Finance and Accounting Service (DFAS) is proposing to add a system of records notice to its inventory of record systems subject to the Privacy Act of 1974, (5 U.S.C. 552a), as amended.

DATES: This action will be effective without further notice on September 12, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on August 6, 2007, to the House Committee on Oversight and Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: August 7, 2007.
C.R. Choate
Alternative Federal Register Liaison Officer, Department of Defense.

T7901b

System name:

Consolidated Returned Check System.

System locations:

Defense Information Systems Agency, Defense Enterprise Computing Center—Ogden, 7879 Wardleigh Road, Building 891, Hill Air Force Base, UT 84056-5997.

Defense Finance and Accounting Service—Indianapolis, 8899 E. 56th Street, Indianapolis, IN 46249-2700.

Categories of individuals covered by the system:

Active U.S. Army and Reserve military members.

Categories of records in the system:

Individual's name, Social Security Number (SSN), home address, employing military branch of service, member's status, check payment information such as check numbers, payee name, and addresses.

Authority for maintenance of the system:

5 U.S.C. 301, Departmental Regulations, Department of Defense Financial Management Regulation (DoDFMR) 7000.14-R, Volume 5; 31 U.S.C. 3512 and 3513; and E.O. 9397.

Purpose(s):

The system will assist in the processing and tracking of military pay returned checks for the active U.S. Army and Reserve military members.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Department of the Treasury to provide information on the check issued and electronic funds transfers.

The ‘Blanket Routine Uses’ published at the beginning of the DoD compilation of systems of records notices apply to this system.

Policies and practices for storing, retrieving, accessing, retaining, and disposing of records in the system:

Storage:

Electronic storage media.

Retrievability:

Individual's name, Social Security Number (SSN), and check number.

Safeguards:

Records are stored in an office building protected by guards, controlled screening, use of visitor registers, electronic access, and/or locks. Access to records is limited to individuals who are properly screened and cleared on a need-to-know basis in the performance of their duties. Passwords and digital signatures are required to control access to the system data, and procedures are in place to deter and detect browsing and unauthorized access. Physical and electronic access are limited to persons responsible for servicing and authorized to use the system.

Retention and disposal:

Records may be temporary in nature and deleted when actions are completed, superseded, obsolete, or no longer needed. Other records may be cut off at the end of the payroll year, or destroyed up to 6 years and 3 months after cutoff. Records are destroyed by degaussing shredding, or burning.

System manager(s) and address:

Defense Finance and Accounting Service—Indianapolis, Information Technology Directorate, System Manager, 8899 East 56th Street, Indianapolis, IN 46249-2700.

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's name, Social Security Number (SSN), current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the subject individual, DFAS Defense Joint Military Pay System, active U.S. Army and Reserve Components systems and the United States Department of the Treasury.

Exemptions claimed for the system:

None.

[FR Doc. E7-15773 Filed 8-10-07; 8:45 am]

BILLING CODE 5001-06-P